CONSUMER PRODUCT SAFETY COMMISSION

16 CFR Part 1230

[Docket No. CPSC-2014-0011]

Safety Standard for Frame Child Carriers

AGENCY: Consumer Product Safety Commission.

ACTION: Direct final rule.

SUMMARY: In March 2015, the U.S. Consumer Product Safety Commission (CPSC) published a consumer product safety standard for frame child carriers under section 104 of the Consumer Product Safety Improvement Act of 2008 (CPSIA). The standard incorporated by reference the ASTM voluntary standard for frame child carriers that had been adopted in 2014 and was in effect at the time. The CPSIA sets forth a process for updating mandatory standards for durable infant or toddler products that are based on a voluntary standard, when the voluntary standards organization revises the standard. Consistent with the CPSIA's update process, this direct final rule updates the mandatory standard for frame child carriers to incorporate by reference ASTM's 2022 version of the voluntary standard.

DATES: The rule is effective on December 3, 2022, unless CPSC receives a significant adverse comment by October 3, 2022. If CPSC receives such a comment, it will publish a document in the Federal Register, withdrawing this direct final rule before its effective date. The incorporation by reference of the publication listed in this rule is approved by the Director of the Federal Register as of December 3, 2022.

ADDRESSES: You can submit comments, identified by Docket No. CPSC-2014-0011, by any of the following methods:

Electronic Submissions: Submit electronic comments to the Federal eRulemaking Portal at: www.regulations.gov. Follow the instructions for submitting comments. Do not submit through this website: confidential business information, trade secret information, or other sensitive or protected information that you do not want to be available to the public. CPSC typically does not accept comments submitted by electronic mail (email), except as described below.

Mail/hand delivery/courier/confidential Written Submissions: CPSC encourages you to submit electronic comments by using the Federal eRulemaking Portal. You may, however, submit comments by mail, hand delivery, or courier to: Office of the Secretary, Consumer Product Safety Commission, 4330 East-West Highway, Bethesda, MD 20814; telephone: (301) 504-7479.

Instructions: All submissions must include the agency name and docket number. CPSC may post all comments without change, including any personal identifiers, contact information, or other personal information provided, to: www.regulations.gov. If you wish to submit confidential business information, trade secret information, or other sensitive or protected information that you do not want to be available to the public, you may submit such comments by mail, hand delivery, or courier, or you may email them to: cpsc-os@cpsc.gov.

Docket: For access to the docket to read background documents or comments received, go to: www.regulations.gov, and insert the docket number, CPSC-2014-0011, into the “Search” box, and follow the prompts.

FOR FURTHER INFORMATION CONTACT: Keysha Walker, Compliance Officer, U.S. Consumer Product Safety Commission, 4330 East-West Highway, Bethesda, MD 20814; telephone: (301) 504-6820; email: KWalker@cpsc.gov.

SUPPLEMENTARY INFORMATION:

A. Background

1. Statutory Authority

Section 104(b)(1) of the CPSIA requires the Commission to assess the effectiveness of voluntary standards for durable infant or toddler products and to adopt mandatory standards for these products. 15 U.S.C. 2056a(b)(1). A mandatory standard must be “substantially the same as” the corresponding voluntary standard, or it may be “more stringent than” the voluntary standard, if the Commission determines that more stringent requirements would further reduce the risk of injury associated with the product. Id.

Section 104(b)(4)(B) of the CPSIA specifies the process for updating the Commission's rules when a voluntary standards organization revises a standard that the Commission previously incorporated by reference under section 104(b)(1). First, the voluntary standards organization must notify the Commission of the revision. Once the Commission receives this notification, the Commission may reject or accept the revised standard. The Commission may reject the revised standard by notifying the voluntary standards organization, within 90 days of receiving notice of the revision, that it has determined that the revised standard does not improve the safety of the consumer product and that it is retaining the existing standard. If the Commission does not take this action to reject the revised standard, then the revised voluntary standard will be considered a consumer product safety standard issued under section 9 of the Consumer Product Safety Act (15 U.S.C. 2058), effective 180 days after the Commission received notification of the revision or on a later date specified by the Commission in the Federal Register. 15 U.S.C. 2056a(b)(4)(B).

2. Safety Standard for Frame Child Carriers

Under section 104(b)(1) of the CPSIA, the Commission adopted a mandatory rule for frame child carriers, codified in 16 CFR part 1230. The rule incorporated by reference ASTM F2549-14a, Standard Consumer Safety Specification for Frame Child Carriers, with no modifications. 80 FR 11121 (Mar. 2, 2015). At the time the Commission published the final rule, ASTM F2549-14a was the current version of the voluntary standard. Until now, the voluntary standard has not been revised since promulgation of the final rule.

On June 6, 2022, ASTM notified CPSC that it has revised the voluntary standard for frame child carriers, by approving ASTM F2549-22 on April 1, 2022. On June 16, 2022, the Commission published a notice of availability in the Federal Register regarding the revised voluntary standard and sought comments on the effect of the revisions on the safety of the standard for frame child carriers. 87 FR 36311 (Jun. 16, 2022). We did not receive any comments.

As discussed in section B. Revisions to ASTM F2549, based on CPSC staff's review of ASTM F2549-22,¹ the Commission will allow the revised voluntary standard to become the mandatory standard because it improves the safety of frame child carriers.² Accordingly, by operation of law under section 104(b)(4)(B) of the CPSIA, ASTM F2549-22 will become the mandatory consumer product safety standard for frame child carriers on December 3, 2022. 15 U.S.C. 2056a(b)(4)(B). This direct final rule updates 16 CFR part 1230 to incorporate by reference the revised voluntary standard, ASTM F2549-22.

¹ CPSC staff's briefing package regarding ASTM F2549-22 is available at: https://www.cpsc.gov/s3fs-public/ASTMsRevisedSafetyStandardforFrameChildCarriers.pdf?VersionId=lfnZNP_EpmjgTtw1my8EyAsKzPrtMzp3.

² The Commission voted 4-1 to approve this notice. Chair Hoehn-Saric, Commissioners Baiocco, Feldman and Boyle voted to approve the notice as drafted. Commissioner Trumka voted to determine that the proposed revision does not improve the safety of frame child carriers and therefore did not approve publication of the notice in the Federal Register.

B. Revisions to ASTM F2549

The ASTM standard for frame child carriers includes performance requirements, test methods, and requirements for warning labels and instructional literature, to address hazards to children associated with frame child carriers. ASTM F2549-22 contains substantive revisions, as well as editorial, non-substantive revisions. These revisions consist of revising the load condition in the Dynamic Strength Test and Stability Test, increasing the applied torque in the Torque Test, replacing the test torso, harmonizing the warning label with the standard's scope, adding additional flammability requirements for fabric components of the product, and applying several minor language revisions. The Commission concludes that these changes collectively improve the safety of frame child carriers, and none of the changes has a material adverse effect on safety. Below is a detailed discussion of the substantive and non-substantive changes made to ASTM F2549-14a.

Substantive Changes in ASTM F2549-22

ASTM F2549-22 made the following substantive changes to ASTM F2549-14a:

1. In section 5.12, the revised standard adds flammability requirements for fabric components of the frame carrier, in addition to the existing flammability requirements for solid components of the frame carrier (as determined by 16 CFR 1500.3(c)(6)(vi)). The new requirements for fabric components of the frame carrier specify: “There shall be no Class 2 or 3 fabrics used in the construction of a frame child carrier when the fabrics are evaluated against the requirements of 16 CFR 1610.” Accordingly, the new requirements only permit the use of Class 1 fabrics, which have a lower flammability that is acceptable for use in clothing.

The regulation at 16 CFR part 1610 is an ignition test that measures the time it takes for a fabric sample to ignite when a flame is applied. Class 2 and Class 3 fabrics ignite in less time than Class 1 fabrics; therefore, they are more flammable. The revised standard only permits the use of Class 1 fabrics, which exhibit the longest time to ignite (and therefore, are the least flammable fabric class) and are rated for use in clothing. This change improves the safety of frame child carriers because it ensures that fabric components of the frame carrier meet the most stringent flammability requirements for fabrics.

2. The revised standard adds a requirement in section 5.12.3 under 5.12 Flammability of Frame Child Carriers that states, “Non-toy accessories that are sold with and intended to be attached to the product shall also meet the requirement of 5.12.” This change improves the safety of frame child carriers because it ensures that non-toy accessories, such as sunshades, hoods, and bibs meet the most stringent flammability requirements for solids and fabrics.

3. Figure 5 in the revised standard specifies a drawing of a rigid torso with dimensions, which replaces a generic photo of a typical torso that is used for training. The rigid test torso with dimensions aligns with the test torso specified in other standards for child carrier products (ASTM F2907-19—Standard Consumer Safety Specification for Sling Carriers, the EN 13209-1 Child care articles. Child carriers. Safety requirements and test methods Framed back carrier, and EN 13209-2 Child use and care articles—Baby carriers—Safety requirements and test methods—Part 2: Soft carrier). The new test torso is referenced in sections 7.2 Dynamic Strength Test and 7.3 Static Load Test.

The dynamic and static performance tests require attachment of the frame carrier to a test torso. However, the test results are determined by the magnitude and location of the force applied to the product in the static load and dynamic strength test, and the results are not affected by minor changes to the structure to which the product is attached. Therefore, the change to the test torso does not impact safety.

4. In the 2022 version of the standard, ASTM revised multiple elements pertaining to dynamic strength, which improve safety. In section 6.2 Dynamic Strength, the revised standard adds to the dynamic strength requirements an evaluation of the system that attaches the frame carrier to the user's torso, in addition to the existing evaluation of the system that retains the child occupant in the frame carrier.

The frame carrier's attachment system includes any straps or hardware that secure the frame carrier to the caregiver. The revised Dynamic Strength performance requirement now ensures that the frame carrier's attachment straps and buckles will not slip more than 1 inch after 90 cycles of up/down movement of the fully loaded frame carrier. This additional test improves the safety of frame child carriers because it ensures that all straps related to the proper retention and orientation of the occupant (including both those within the product and those between the product and the caregiver) will not loosen to the point that the child occupant can fall from the product.

In section 7.2 Dynamic Strength Test, sections 7.2.1 through 7.2.6 of the standard were revised. These changes consist of a new test torso and evaluating the attachment system as described above, adding weights to the external pockets, and modification of the test sequence.

Section 7.2.3 now states, “Pockets, pouches, and other carrying receptacles of the product shall be loaded with weight(s) up to the manufacturer's maximum recommended weight(s), in such a way that will create the most onerous test condition. The most onerous test condition may include no weight(s) or lower than maximum weight(s) in some receptacles.” Section 6.2 Dynamic Strength clarifies that “Seams of pockets, pouches, and other carrying receptacles are exempt from [the requirement prohibiting damage after the performance test]” because failure of these areas will not affect the retention and safety of the child occupant.

The revised standard modifies section 7.2.5 under 7.2 Dynamic Strength Test to provide for readjustment or re-tightening of all adjustable components, such as straps in the occupant retention system and attachments to the test torso after completion of a 90-cycle vibration test (which follows a 10-cycle test) and before the carrier is subjected to a 49,900-cycle vibration test. The test procedure in ASTM F2549-14a did not have the readjustment step before the 49,900-cycle vibration test.

As noted, the application of this test to attachment straps improves safety. With respect to the occupant retention straps, which were subjected to the Dynamic Strength Test under the 2014 standard, the change of readjusting straps after the 90-cycle test results in a potentially less stringent test. This is unlikely to affect the outcome of the test, however, because the test total of 50,000 cycles should fail any substandard strap, fastener, or frame component, regardless of the change. Because a looser adjustment strap for occupant retention is unlikely to affect the outcome of the test after 50,000 cycles of testing, and because the revised test conditions of an increased test load and evaluation of the attachment system are more stringent, the revision to 7.2 Dynamic Strength Test is an improvement in safety.

5. Section 7.1.1 Leg Openings Test—The following non-mandatory note was removed: “If the manufacturer does not provide instructions for seat height, adjust the seat so that it results in CAMI's chin resting right above the edge of the frame carrier.” This non-mandatory note was removed to avoid confusion potentially leading to the carrier not being tested under the most onerous condition.

In some product designs, the leg opening becomes larger as the seat is lowered. Therefore, lowering the seat in these designs can create the most onerous position for the Leg Openings Test. However, because this is an explanatory note, and not mandatory, and because there is no change in the requirements to test the product in the most onerous condition, there is no impact on safety.

6. The revised standard modifies sections 7.4.3 and 7.4.4 under 7.4 Stability Test to increase the test load from “at least 40 lb (18.1 kg)” to “40 lb (18.1 kg) or equal to the manufacturer's maximum recommended weight for the occupant, if greater.”

This change improves the safety of frame child carriers because it increases the test weight used in the stability test for some frame child carriers. Increasing the test weight increases the center of gravity height used in the stability test. As the center of gravity increases, the tested product is more likely to tip over and fail. Therefore, the change makes the stability test more stringent.

7. The revised standard modifies section 7.10.3 Torque Test in section 7.10 Removal of Protective Components Test to increase the applied torque from 2 lbf-in to 4 lbf-in. The torque is applied clockwise to any component that is graspable in a child's hand or teeth or if there is at least .04 inch gap between the component and its adjacent component.

This change improves the safety of frame child carriers. It increases the torque applied to components that may come loose when grasped by a child, which reduces the likelihood of a part coming loose and becoming accessible to the child.

8. The revised standard creates a new section 8.5 Warning Statements in section 8, Marking and Labeling, with the following guidelines:

○ Adds an explicit description of the fall hazard related to a child slipping through the leg opening of the frame carrier.

○ Increases recommended maximum child weight range from “40 lbs (or the maximum child weight recommended by the manufacturer, if less)” to “50 lbs (22.7 kg) (or the maximum weight recommended by the manufacturer, if less).” This change aligns the warning label with the scope of ASTM F2549, which states that a “frame carrier is intended for use with a child that is able to sit upright unassisted and weighs between 16 lb and 50 lb (7.3 kg and 22.7 kg).”

○ Adds a clarification that the maximum overall weight recommendation for the product includes the cargo in pockets/pouches in addition to the weight of the child occupant. The maximum overall weight statement shall immediately follow recommended occupant weight statement.

○ Adds a new Figure of an exemplar warning label that illustrates the guidelines specified in section 8.5.

These changes to the warnings and instructions improve the safety of frame child carriers because they harmonize the maximum weight stated in the warning label with the maximum weight stated in the standard's scope, and they clarify the fall hazard in the warning label. The scope of the 2009 version of the standard (ASTM F2549-09) included products that could carry children up to 40 pounds. When the standard was updated to include products that could carry children up to 50 pounds, in F2549-13, this warning label was not updated to reflect the change, and that issue persisted in the F259-14a version that is incorporated by reference in the Commission's rule. The 2022 version of ASTM F2549 remedies this, aligning the warning label with the updated 50-pound limit from 2013. In addition, this change adds a required warning label informing consumers of the product's maximum allowed weight (child + cargo), and thus, it is an improvement in safety.

The substantive changes made in ASTM F2549-22 are an improvement to the safety of frame child carriers. These changes introduce more stringent requirements or more stringent test conditions for flammability, leg hole openings, dynamic strength tests (to evaluate product durability and strap slippage), static stability tests, and torque test to evaluate graspable parts. Therefore, the Commission concludes that these changes improve the safety of frame child carriers.

Non-Substantive Changes in ASTM F2549-22

ASTM F2549-22 makes several non-substantive changes to the standard as follows:

1. Section 5.5 Scissoring, Shearing, and Pinching, contains an Ad Hoc revision ³ that make the following changes (italicized text is added text and [bracketed text] is deleted text) “Scissoring, shearing, or pinching that may cause injury [shall not be permissible ]exists when the edges of [any] the rigid parts admit a prove greater than 0.210 in. ([5.3]5.33 mm) and less than 0.375 in. ([9.50]9.53mm) in diameter at any accessible point throughout the range of motion of such parts.” This portion of section 5.5 is not a performance requirement but rather explains how to identify a scissoring, shearing, or pinching hazard. Therefore, changing “shall not be permissible” to “exists” does not remove or change any general requirements, which are found in section 5. Additionally, the preceding text of section 5.5 still states that products “shall be designed and constructed so as to prevent injury to the occupant from any scissoring, shearing, or pinching when members or components rotate about a common axis or fastening point, slide, pivot, fold, or otherwise move relative to one another.” This preceding text ensures that all frame child carriers are evaluated for the scissoring, shearing, and pinching hazards. Therefore, this is a non-substantive change.

³ ASTM convened a task group, ASTM Ad Hoc Wording Task Group (Ad Hoc TG), consisting of members of the various durable nursery products voluntary standards committees, including CPSC staff. The purpose of the Ad Hoc TG is to harmonize the wording, as well as the warning format, across durable infant and toddler product voluntary standards. Ad Hoc TG recommendations were published as a reference document, titled, “Ad Hoc Wording—May 4, 2016,” as part of the F15 Committee Documents.

2. The section 5.8 Locking and Latching performance requirement is modified to exempt the frame child carrier's kickstand. Section 5.8 references section 7.8 Locking Device Test, where the locking device shall not unlock when a 10 lbf force is gradually applied in the direction tending to unlock it.

Kickstands are separately required to meet section 5.9 Unintentional folding performance requirement, which references section 7.9 Unintentional Folding Test. In the Unintentional Folding Test, the frame child carrier's seat is loaded with a 16-pound weight (or, if greater, the manufacturer's minimum recommended child weight), and the kickstand shall not fold when a 10 lbf force is gradually applied in the direction tending to fold it.

The Unintentional Folding Test referenced in the Unintentional Folding performance requirement is equivalent to the Locking Device Test referenced in the Locking and Latching performance requirement and better simulates the hazard loading condition of a frame child carrier's kickstand unintentionally folding. Therefore, this modification does not affect safety.

3. The revised standard adds a requirement to section 6.2 Dynamic Strength, which provides that the frame carrier “shall show no damage that will impair its function,” in addition to the existing requirement that the frame carrier “shall not create a hazardous condition, such as frame or fasteners breaking or disengaging or seams separating” after the dynamic strength tests have been completed. Improper function of the frame carrier is a potentially hazardous condition if it affects retention of the child occupant. Adding impaired functioning as an example of a hazardous condition does not impact safety because it does not change the primary requirement that prohibits the creation of a hazardous condition in the frame carrier after 50,000 cycles of testing.

4. The 2022 revision clarifies section 7.2.3 of the Dynamic Strength Test by changing “alternating vertical movement at amplitude of 4.7 inches and a frequency of 2 cycles/second (Hz)” to “alternating vertical sinusoidal movement through 4.75 inches at a frequency of 2 Hz.”

Originally, section 7.2.3 was intended to describe the vertical reciprocating movement of a frame carrier that moved up and down by 4.7 inches. Typically test labs, including CPSC, use a slider-crank linkage mechanism that converts the rotational motion from a motor shaft to a vertical reciprocating motion. The reciprocating vertical motion of the frame carrier follows the path of a sine wave.

The revision to the Dynamic Strength Test adds a better description of the vertical motion. Sinusoidal movement through 4.75 inches describes the vertical movement of the frame carrier in the shape of a sine curve as it raises and lowers by 4.75 inches. The revised wording better describes the vertical movement of the frame carrier during the existing test. Therefore, this is a non-substantive change.

5. Section 8.4. Warning Design for Product incorporates the ASTM Ad Hoc recommendations for the design and layout of warnings.

The Commission finds that all of the non-substantive changes made in ASTM F2549-22 regarding safety for frame child carriers do not impact safety because they are editorial in nature or modify a non-mandatory note that merely provides explanatory material.

C. Incorporation by Reference

Section 1230.2 of the direct final rule incorporates by reference ASTM F2549-22. The Office of the Federal Register (OFR) has regulations regarding incorporation by reference. 1 CFR part 51. Under these regulations, agencies must discuss, in the preamble to a final rule, ways in which the material the agency incorporates by reference is reasonably available to interested parties, and how interested parties can obtain the material. In addition, the preamble to the final rule must summarize the material. 1 CFR 51.5(b).

In accordance with the OFR regulations, section B. Revisions to ASTM F2549 of this preamble summarizes the major provisions of ASTM F2549-22 that the Commission incorporates by reference into 16 CFR part 1230. The standard is reasonably available to interested parties. Until the direct final rule takes effect, a read-only copy of ASTM F2549-22 is available for viewing, at no cost, on ASTM's website at: www.astm.org/CPSC.htm. Once the rule takes effect, a read-only copy of the standard will be available for viewing, at no cost, on the ASTM website at: www.astm.org/READINGLIBRARY/. Interested parties can also schedule an appointment to inspect a copy of the standard at CPSC's Office of the Secretary, U.S. Consumer Product Safety Commission, Room 820, 4330 East-West Highway, Bethesda, MD 20814, telephone: (301) 504-7479; email: cpsc-os@cpsc.gov. Interested parties can purchase a copy of ASTM F2549-22 from ASTM International, 100 Barr Harbor Drive, P.O. Box C700, West Conshohocken, PA 19428-2959 USA; telephone: (610) 832-9585; www.astm.org.

D. Certification

Section 14(a) of the Consumer Product Safety Act (CPSA; 15 U.S.C. 2051-2089) requires manufacturers of products subject to a consumer product safety rule under the CPSA, or to a similar rule, ban, standard, or regulation under any other act enforced by the Commission, to certify that the products comply with all applicable CPSC requirements. 15 U.S.C. 2063(a). Such certification must be based on a test of each product, or on a reasonable testing program, or for children's products, on tests of a sufficient number of samples by a third party conformity assessment body accredited by CPSC to test according to the applicable requirements. As noted, standards issued under section 104(b)(1)(B) of the CPSIA are “consumer product safety standards.” Thus, they are subject to the testing and certification requirements of section 14 of the CPSA.

Because frame child carriers are children's products, a CPSC-accepted third party conformity assessment body must test samples of the products. Products subject to part 1230 also must comply with all other applicable CPSC requirements, such as the lead content requirements in section 101 of the CPSIA,⁴ the tracking label requirements in section 14(a)(5) of the CPSA,⁵ and the consumer registration form requirements in section 104(d) of the CPSIA.⁶ ASTM F2549-22 makes no changes that would impact any of these existing requirements.

⁴ 15 U.S.C. 1278a.

⁵ 15 U.S.C. 2063(a)(5).

⁶ 15 U.S.C. 2056a(d).

E. Notice of Requirements

In accordance with section 14(a)(3)(B)(vi) of the CPSA, the Commission previously published a notice of requirements (NOR) for accreditation of third party conformity assessment bodies for testing frame child carriers. 80 FR 11113 at 11121 (Mar. 2, 2015). The NOR provided the criteria and process for CPSC to accept accreditation of third party conformity assessment bodies for testing frame child carriers to 16 CFR part 1230. The NORs for all mandatory standards for durable infant or toddler products are listed in the Commission's rule, “Requirements Pertaining to Third Party Conformity Assessment Bodies,” codified in 16 CFR part 1112. Id.

Fourteen of the seventeen testing laboratories that are currently CPSC-accepted to conduct testing for frame child carriers are also CPSC-accepted to conduct testing for sling carriers, which already requires them to possess the revised test torso that is newly required for testing to ASTM F2549-22. The three other laboratories should be able to acquire the new test torso (if they don't already have it) before the effective date for the mandatory standard. Laboratories likewise should have no difficulty creating or modifying equipment for the Dynamic Strength Test's revised loading requirements and updating their procedures to align with the revised standard. Therefore, none of the changes to the standard would impede a CPSC-accepted laboratory from being able to conduct testing to the revised standard. CPSC-accepted testing laboratories that have ASTM F2549-14a in their scope of accreditation are competent to conduct testing to ASTM F2549-22. Therefore, the Commission considers the existing CPSC-accepted laboratories for testing to ASTM F2549-14a to be capable of testing to ASTM F2549-22, as well. Accordingly, the existing NOR for this standard will remain in place, and CPSC-accepted third party conformity assessment bodies, in the normal course of renewing their accreditations, are expected to update the scope of the testing laboratories' accreditations to reflect the revised standard. Thus, laboratories will begin testing to the new standard when ASTM F2549-22 goes into effect, and the existing accreditations that the Commission has accepted for testing to this standard will cover testing to the revised standard.

F. Direct Final Rule Process

The Commission is issuing this rule as a direct final rule. Although the Administrative Procedure Act (APA; 5 U.S.C. 551-559) generally requires agencies to provide notice of a rule and an opportunity for interested parties to comment on it, section 553 of the APA provides an exception when the agency “for good cause finds” that notice and comment are “impracticable, unnecessary, or contrary to the public interest.” Id. 553(b)(B). The Commission concludes that when it updates a reference to an ASTM standard that the Commission incorporated by reference under section 104(b) of the CPSIA, notice and comment are not necessary.

Specifically, under the process set out in section 104(b)(4)(B) of the CPSIA, when ASTM revises a standard that the Commission has previously incorporated by reference under section 104(b)(1)(B) of the CPSIA, that revision will become the new CPSC standard, unless the Commission determines that ASTM's revision does not improve the safety of the product. Thus, unless the Commission makes such a determination, the ASTM revision, by operation of law, becomes CPSC's standard. The Commission is allowing ASTM F2549-22 to become CPSC's new standard because its provisions improve product safety. The purpose of this direct final rule is to update the Code of Federal Regulations (CFR) so that it reflects the version of the standard that takes effect by statute. This rule updates the reference in the CFR, but under the terms of the CPSIA, ASTM F2549-22 takes effect as the new CPSC standard for frame child carriers, even if the Commission does not issue this rule. Thus, public comments would not alter substantive changes to the standard or the effect of the revised standard as a consumer product safety standard under section 104(b) of the CPSIA. Under these circumstances, notice and comment are unnecessary.

In Recommendation 95-4, the Administrative Conference of the United States (ACUS) endorses direct final rulemaking as an appropriate procedure to expedite rules that are noncontroversial and not expected to generate significant adverse comments. See 60 FR 43108 (Aug. 18, 1995). ACUS recommends that agencies use the direct final rule process when they act under the “unnecessary” prong of the good cause exemption in 5 U.S.C. 553(b)(B). Consistent with the ACUS recommendation, the Commission is publishing this rule as a direct final rule, because CPSC does not expect any significant adverse comments.

Unless CPSC receives a significant adverse comment within 30 days of this notification, the rule will become effective on December 3, 2022. In accordance with ACUS's recommendation, the Commission considers a significant adverse comment to be “one where the commenter explains why the rule would be inappropriate,” including an assertion challenging “the rule's underlying premise or approach,” or a claim that the rule “would be ineffective or unacceptable without a change.” 60 FR 43108, 43111 (Aug. 18, 1995). As noted, this rule merely updates a reference in the CFR to reflect a change that occurs by statute, and public comments should address this specific action.

If the Commission receives a significant adverse comment, the Commission will withdraw this direct final rule. Depending on the comment and other circumstances, the Commission may then incorporate the adverse comment into a subsequent direct final rule or publish a notice of proposed rulemaking, providing an opportunity for public comment.

G. Regulatory Flexibility Act

The Regulatory Flexibility Act (RFA; 5 U.S.C. 601-612) generally requires agencies to review proposed and final rules for their potential economic impact on small entities, including small businesses, and to prepare regulatory flexibility analyses. 5 U.S.C. 603, 604. The RFA applies to any rule that is subject to notice and comment procedures under section 553 of the APA. Id. As discussed in section F. Direct Final Rule Process of this preamble, the Commission has determined that notice and the opportunity to comment are unnecessary for this rule. Therefore, the RFA does not apply. CPSC also notes the limited nature of this document, which merely updates the incorporation by reference to reflect the mandatory CPSC standard that takes effect under section 104 of the CPSIA.

H. Paperwork Reduction Act

The current mandatory standard for frame child carriers includes requirements for marking, labeling, and instructional literature that constitute a “collection of information,” as defined in the Paperwork Reduction Act (PRA; 44 U.S.C. 3501-3521). Although the revised mandatory standard revises existing marking and labeling, and instructional literature language for frame child carriers, the revisions would not add to the burden hours because the products already require marking, labeling, and instructional literature. The new requirements merely require new words or wording changes to language already required by the standard for frame child carriers. Therefore, the new requirements are not more burdensome than the existing requirements.

The Commission took the steps required by the PRA for information collections when it promulgated 16 CFR part 1230, and the marking, labeling, and instructional literature for frame child carriers is currently approved under OMB Control Number 3041-0159. Because the information collection burden is unchanged, the revision does not affect the information-collection requirements or approval related to the standard.

I. Effective Date

Under the procedure set forth in section 104(b)(4)(B) of the CPSIA, when a voluntary standards organization revises a standard that the Commission adopted as a mandatory standard, the revision becomes the CPSC standard 180 days after notification to the Commission, unless the Commission timely notifies the standards organization that it has determined that the revision does not improve the safety of the product, or the Commission sets a later date in the Federal Register. 15 U.S.C. 2056a(b)(4)(B). The Commission is taking neither of those actions with respect to the standard for frame child carriers. Therefore, ASTM F2549-22 will take effect as the new mandatory standard for frame child carriers on December 3, 2022, 180 days after June 6, 2022, when the Commission received notice of the revision.

J. Preemption

Section 26(a) of the CPSA provides that where a consumer product safety standard is in effect and applies to a product, no state or political subdivision of a state may either establish or continue in effect a requirement dealing with the same risk of injury unless the state requirement is identical to the federal standard. 15 U.S.C. 2075(a). Section 26(c) of the CPSA also provides that states or political subdivisions of states may apply to CPSC for an exemption from this preemption under certain circumstances. Section 104(b) of the CPSIA deems rules issued under that provision “consumer product safety standards.” Therefore, once a rule issued under section 104 of the CPSIA takes effect, it will preempt in accordance with section 26(a) of the CPSA.

K. Environmental Considerations

The Commission's regulations provide a categorical exclusion for the Commission's rules from any requirement to prepare an environmental assessment or an environmental impact statement where they “have little or no potential for affecting the human environment.” 16 CFR 1021.5(c)(2). This rule falls within the categorical exclusion, so no environmental assessment or environmental impact statement is required.

L. Congressional Review Act

The Congressional Review Act (CRA; 5 U.S.C. 801-808) states that before a rule may take effect, the agency issuing the rule must submit the rule, and certain related information, to each House of Congress and the Comptroller General. 5 U.S.C. 801(a)(1). The CRA submission must indicate whether the rule is a “major rule.” The CRA states that the Office of Information and Regulatory Affairs determines whether a rule qualifies as a “major rule.”

Pursuant to the CRA, this rule does not qualify as a “major rule,” as defined in 5 U.S.C. 804(2). To comply with the CRA, CPSC will submit the required information to each House of Congress and the Comptroller General.

List of Subjects in 16 CFR Part 1230

Consumer protection, Imports, Incorporation by reference, Imports, Infants and children, Law enforcement, Safety, Toys.

For the reasons discussed in the preamble, the Commission amends 16 CFR chapter II as follows:

PART 1230—SAFETY STANDARD FOR FRAME CHILD CARRIERS

1. The authority citation for part 1230 continues to read as follows:

Authority: The Consumer Product Safety Improvement Act of 2008, Pub. L. 110-314, 104, 122 Stat. 3016 (August 14, 2008); Pub. L. 112-28, 125 Stat. 273 (August 12, 2011).

2. Revise § 1230.2 to read as follows:

§ 1230.2 Requirements for Frame Child Carriers.

Each frame child carrier must comply with all applicable provisions of ASTM F2549-22, Standard Consumer Safety Specification for Frame Child Carriers, approved on approved April 1, 2022. The Director of the Federal Register approves this incorporation by reference in accordance with 5 U.S.C. 552(a) and 1 CFR part 51. A read-only copy of the standard is available for viewing on the ASTM website at www.astm.org/READINGLIBRARY/. You may obtain a copy from ASTM International, 100 Barr Harbor Drive, P.O. Box C700, West Conshohocken, PA 19428-2959; telephone (610) 832-9585; www.astm.org. You may inspect a copy at the Office of the Secretary, U.S. Consumer Product Safety Commission, Room 820, 4330 East-West Highway, Bethesda, MD 20814, telephone (301) 504-7479, email cpsc-os@cpsc.gov, or at the National Archives and Records Administration (NARA). For information on the availability of this material at NARA, email fr.inspection@nara.gov, or go to: www.archives.gov/federal-register/cfr/ibr-locations.html.

Alberta E. Mills,
Secretary, Consumer Product Safety Commission.

[FR Doc. 2022-18786 Filed 8-31-22; 8:45 am]

BILLING CODE 6355-01-P